DEPARTMENT OF THE INTERIOR

National Park Service

Notice of Intent to Repatriate Cultural Items from the Prince William Sound Region, AK in the Control of the Chugach National Forest, U.S. Forest Service, Anchorage, AK and in Possession of the University of Alaska Museum, Fairbanks, AK

AGENCY: National Park Service, Interior.

ACTION: Notice.

Notice is hereby given under the Native American Graves Protection and Repatriation Act, 43 CFR 10.10 (a)(3), of the intent to repatriate cultural items from the Prince William Sound Region, Alaska in the control of the Chugach National Forest, U.S. Forest Service, Anchorage, AK and in possession of the University of Alaska Museum, Fairbanks, AK which meet the definition of “unassociated funerary objects” under Section 2 of the Act.

The two cultural items consist of two bone needles.

In 1933, these two cultural items were recovered with a burial at the Palugvik Village site on Hawkins Island, AK during excavations conducted under the auspices of the University of Pennsylvania Museum by Frederica de Laguna. The human remains recovered with these cultural items have previously been repatriated from the Danish National Museum. Based on archeological evidence, the Palugvik Village site has been dated to c. 1500 A.D.

The three cultural items consist of a string of glass beads and two shell pendants.

In 1933, these three cultural items were recovered with a burial at Glacier Island, AK during excavations conducted under the auspices of the University of Pennsylvania Museum by Frederica de Laguna. The human remains recovered with these cultural items have previously been repatriated from the Danish National Museum. Based on archeological evidence, this Glacier Island burial has been dated to the post-contact period, post-1780 A.D.

In 1953, the cultural items mentioned above were sent to the University of Alaska Museum from the University of Pennsylvania Museum as part of an exchange collection.

Based on the above mentioned information, officials of the U.S. Forest Service have determined that, pursuant to 43 CFR 10.2 (d)(2)(ii), these five cultural items are reasonably believed to have been placed with or near individual human remains at the time of death or later as part of the death rite or ceremony and are believed, by a preponderance of the evidence, to have been removed from a specific burial site of a Native American individual. Officials of the U.S. Forest Service have also determined that, pursuant to 43 CFR 10.2 (e), there is a relationship of shared group identity which can be reasonably traced between these items and the Chugach Alaska Corporation.

This notice has been sent to officials of the Chugach Alaska Corporation. Representatives of any other Indian tribe that believes itself to be culturally affiliated with these objects should contact Linda Yarborough, Acting Forest Archaeologist, Chugach National Forest, 3301 C Street, Suite 300, Anchorage, AK 99503; telephone: (907) 271-2511, fax: (907) 271-2725 before May 1, 2000. Repatriation of these objects to the Chugach Alaska Corporation may begin after that date if no additional claimants come forward.

Dated: March 23, 2000.
Francis P. McManamon,
Departmental Consulting Archeologist, Manager, Archeology and Ethnography Program.

[FR Doc. 00-7852 Filed 3-29-00; 8:45 am]

BILLING CODE 4310-70-F